DEPARTMENT OF COMMERCE

National Oceanic and Atmospheric Administration

15 CFR Part 922

Office of National Marine Sanctuaries Interim Policy and Permit Guidance for Submarine Cable Projects

AGENCY: Office of National Marine Sanctuaries (ONMS), National Oceanic and Atmospheric Administration (NOAA), Department of Commerce (DOC).

ACTION: Notice; Request for public comments.

SUMMARY: NOAA is proposing interim policy and permit guidance for submarine cable projects proposed in national marine sanctuaries. This action identifies the criteria the ONMS will use to ensure that applications to install and maintain submarine cables in sanctuaries are reviewed consistently and in a manner that adheres to the National Marine Sanctuaries Act and ONMS regulations (15 CFR part 922).

DATES: Comments on the interim policy and permit guidance for submarine cable projects will be accepted if received on or before May 21, 2009.

ADDRESSES: Comments may be submitted by any of the following methods:

• Federal e Rulemaking Portal: http://www.regulations.gov. Submit electronic comments via the Federal e Rulemaking Portal rather than by e-mail;

• Mail: Debra Malek, NOAA, Office of National Marine Sanctuaries, 1305 East-West Highway, (N/NMS2), 11th Floor, Silver Spring, Maryland 20910.

Copies of the interim policy and permit guidance for submarine cable projects may be viewed and downloaded at http://sanctuaries.noaa.gov/.

Paperwork burden: Submit written comments regarding the burden-hour estimates or other aspects of the information collection requirements contained in this proposed rule by e-mail to Diana Hynek at dHynek@doc.gov.

FOR FURTHER INFORMATION CONTACT: Debra Malek, (301) 713-3125, ext. 262.

SUPPLEMENTARY INFORMATION:

Background

The NOAA Office of National Marine Sanctuaries (ONMS) manages a system of thirteen national marine sanctuaries (NMSs or sanctuaries) that protect special, nationally significant areas of the marine environment under the authority of the National Marine Sanctuaries Act (NMSA; 16 U.S.C. 1431 et seq.). The ONMS, along with the U.S. Fish and Wildlife Service and the State of Hawaii, also manages the Papahanaumokuakea Marine National Monument under the Antiquities Act. Sanctuaries and the monument protect a variety of marine habitats and cultural resources including coral reefs, mangrove forests, seagrass beds, deep-sea canyons, kelp beds, marine mammal feeding and breeding grounds, and historic shipwrecks and other submerged cultural resources.

In the late 1990s, the ONMS received applications to install and maintain telecommunication submarine cables through the Olympic Coast National Marine Sanctuary and the Stellwagen Bank National Marine Sanctuary. Experience gained through the consideration and issuance of permits for those projects highlighted the need for more clarity on how such projects would be handled in the future.

The Department of Commerce convened a workshop in February 2000 with representatives from the telecommunications and fishing industries, environmental and conservation organizations, and state agencies. A white paper with key issues and guiding principles was distributed prior to, and discussed at, the workshop. The proposed guiding principles included: Analysis of habitat types appropriate or inappropriate for cable laying, analysis of individual sanctuary regulations, and parameters for evaluating proposals for cable installations.

In August 2000, NOAA published an advance notice of proposed rulemaking (ANPR) on Installing and Maintaining Commercial Submarine Cables in National Marine Sanctuaries in the Federal Register (65 FR 51264, Aug. 23, 2000). A second ANPR was published in November 2000 at the request of the industry for additional time to comment (65 FR 70537, Nov. 24, 2000). The ANPR requested comments on both the guiding principles contained in the white paper and on the issues raised at the workshop.

Specifically, the ANPR requested comments on:

• Whether changes to existing ONMS regulations or some form of policy guidance was necessary to clarify NOAA's decision-making process regarding the installation and maintenance of commercial submarine cables within NMSs;

• If changes or additional guidance were appropriate, what those changes or guidance should contain; and

• Whether there were comments on the proposed principles on the installation of commercial submarine cables with the marine and coastal environment.

The ONMS received 36 comments from the telecommunications industry, the Department of Defense, the environmental community, State government, and various interested individuals.

General comments on the ANPR included the following:

• The telecommunications industry believed that existing regulations are adequate in NMSs.

• The environmental community urged NOAA to prohibit cables within NMSs, and to develop stringent permit application criteria, including removal of out-of-service cables.

• The industry and the environmental community did not a support a Programmatic Environmental Impact Statement (PETS) or the concept of approving projects in the planning stage.

• The environmental community supported the idea of cable corridors while the industry opposed it.

• The industry wanted improved consultation between NOAA and other cable permitting authorities, such as the U.S. Army Corps of Engineers, the Federal Communications Commission, etc., and more specific, user-friendly criteria for permit applications.

These comments, in addition to direct experience related to cables installed in sanctuaries, were factors that led to NOAA's decision not to pursue rulemaking at this time, but, rather to develop and issue interim permit guidelines. The ONMS believes that cable permit guidelines will ensure that applications to install and maintain submarine cables in sanctuaries are reviewed consistently and in a manner that adheres to the NMSA and ONMS regulations (15 CFR part 922).

John Dunnigan,
Assistant Administrator for Ocean Services and Coastal Zone Management.

[FR Doc. E9-8945 Filed 4-20-09; 8:45 am]

BILLING CODE 3510-NK-M